ENVIRONMENTAL PROTECTION AGENCY

[ER-FRL-6619-3]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167.

An explanation of the ratings assigned to draft environmental impact statements (EISs) was published in FR dated April 14, 2000 (65 FR 20157).

Draft EISs

ERP No. D-AFS-B65009-NH Rating EC2, Loon Mountain Ski Resort Development and Expansion Project, Implementation, Special Use Permit, White Mountain National Forest, Pemigewasset Ranger District, Grafton County, NH.

Summary: EPA offered comments and concerns about the project purpose and need, snowmaking targets, monitoring, water quality impacts, regional infrastructure, air quality, and secondary impacts.

ERP No. D-GSA-K81011-CA Rating EC2, Los Angeles Federal Building—U. S. Courthouse, Construction of a New Courthouse in the Civic Center, City of Los Angeles, Los Angeles County, CA.

Summary: EPA expressed concerns, and requested additional information regarding: impacts to environmental justice communities; water and electricity demand and conservation measures for the proposed facility; cumulative impacts on water, air, cultural, and historic resources; and magnitude of short term air emission impacts.

Final EISs

ERP No. F-AFS-J65320-MT Knox-Brooks Timber Sales and Road Rehabilitation, Implementation, Lola National Forest, Super Ranger District, Mineral County, MT.

Summary: EPA continues to express environmental concerns regarding sediment production from timber harvest/road construction activities, and the level/type of aquatic/hydrologic monitoring proposed to detect effects of management activities.

ERP No. F-AFS-L65345-WA Deadman Creek Ecosystem Management Projects, Sediment Delivered to Streams, Roads in Key Habitat and Noxious Weeds Reduction and Forest Stands Treatment, Implementation, Kettle Falls Ranger District, Colville National Forest, Ferry County, WA.

Summary: No formal comment letter sent to preparing agency.

ERP No. F-AFS-L65361-ID Myrtle-Cascade Project Area, Implementation of Resource Management Activities, Idaho Panhandle National Forests, Bonners Ferry Ranger District, Boundary County, ID.

Summary: No formal comment letter was sent to the preparing agency.

ERP No. F-USN-K39059-HI North Pacific Acoustic Laboratory Project, Reuse of Low Frequency Sound Source and Cable for Use in Acoustic Thermometry of Ocean Climate (ATOC) Research, Kauai, HI.

Summary: No formal comment letter was sent to the preparing agency.

ERP No. FR-AFS-L65348-ID Idaho Panhandle National Forests, Revision to the Small Sales, Harvesting Dead and Damaged Timber, Coeur d'Alene River Range District, Kootenai and Shoshone Counties, ID.

Summary: No formal comment letter sent to the preparing agency.

ERP No. FS-COE-E32074-KY Lower Cumberland and Tennessee Rivers Navigation Improvements, Kentucky Lock Addition, Implementation, Nashville District, Marshall and Livingston Counties, KY.

Summary: EPA has no objection to the proposed action since the original design was improved via construction/alignment modifications which reduced impacts to endangered mussels.

Dated: June 19, 2001.
Joseph C. Montgomery,
Director, NEPA Compliance Division, Office of Federal Activities.

[FR Doc. 01-15776 Filed 6-21-01; 8:45 am]

BILLING CODE 6560-50-U